ENVIRONMENTAL PROTECTION AGENCY

[ER-FRL-9054-7]

Environmental Impact Statements; Notice of Availability

Responsible Agency: Office of Federal Activities, General Information 202-564-5632 or https://www.epa.gov/nepa.

Weekly receipt of Environmental Impact Statements (EIS)

Filed December 23, 2020 10 a.m. EST Through January 4, 2021 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20210000, Draft, BOEM, NY, South Fork Wind Farm and South Fork Export Cable Project, Comment Period Ends: 02/22/2021, Contact: Michelle Morin 703-787-1722.

Dated: January 4, 2021.
Cindy S. Barger,
Director, NEPA Compliance Division, Office of Federal Activities.

[FR Doc. 2021-00116 Filed 1-7-21; 8:45 am]

BILLING CODE 6560-50-P